DEPARTMENT OF HOMELAND SECURITY

Coast Guard

33 CFR Part 117

[Docket No. USCG-2016-0868]

Drawbridge Operation Regulation; Inner Harbor Navigation Canal, New Orleans, LA

AGENCY: Coast Guard, DHS.

ACTION: Notice of deviation from drawbridge regulations.

SUMMARY: The Coast Guard has issued a temporary deviation from the operating schedule that governs the Leon C. Simon Blvd. (Seabrook) (aka Senator Ted Hickey) bascule bridge across the Inner Harbor Navigation Canal, mile 4.6, at New Orleans, Orleans Parish, Louisiana. The deviation is necessary to accommodate The Endurance Foundation Festival, a New Orleans event. This deviation allows the bridge to remain closed-to-navigation for a eight hours on the day of the event.

DATES: This deviation is effective from October 2, 2016 from 7 a.m. through 3 p.m.

ADDRESSES: The docket for this deviation, [USCG-2016-0868] is available at http://www.regulations.gov.

FOR FURTHER INFORMATION CONTACT: If you have questions on this temporary deviation, call or email Donna Gagliano, Bridge Administration Branch, Coast Guard, telephone (504) 671-2128, email Donna.Gagliano@uscg.mil.

SUPPLEMENTARY INFORMATION: Premier Event Management, through the Louisiana Department of Transportation and Development (LDOTD), requested a temporary deviation from the operating schedule of the Leon C. Simon Blvd. (Seabrook) (aka Senator Ted Hickey) bascule bridge across the Inner Harbor Navigation Canal, mile 4.6, at New Orleans, Orleans Parish, Louisiana. The deviation was requested to accommodate The Endurance Foundation Festival, a New Orleans event. The vertical clearance of the Leon C. Simon Blvd. (Seabrook) (aka Senator Ted Hickey) bascule bridge is 46 feet above mean high water in the closed-to-navigation position and unlimited in the open-to-navigation position. The bridge is governed by 33 CFR 117.458(c).

This deviation is effective on October 2, 2016. The bridge over the Inner Harbor Navigation Canal will be closed to marine traffic from 7 a.m. through 3 p.m. This deviation allows the bridge to remain closed-to-navigation for the duration of the event.

Navigation on the waterway consists of small tugs with and without tows, commercial vessels, and recreational craft, including sailboats.

Vessels able to pass through the bridge in the closed-to-navigation position may do so at anytime. The bridge will be able to open for emergencies, and there is no immediate alternate route. The Coast Guard will also inform the users of the waterways through our Local and Broadcast Notices to Mariners of the change in operating schedule for the bridge to minimize any impact caused by the temporary deviation.

In accordance with 33 CFR 117.35(e), the drawbridge must return to its regular operating schedule immediately at the end of the effective period of this temporary deviation. This deviation from the operating regulations is authorized under 33 CFR 117.35.

Dated: September 23, 2016.
David M. Frank,
Bridge Administrator, Eighth Coast Guard District.

[FR Doc. 2016-23507 Filed 9-28-16; 8:45 am]

BILLING CODE 9110-04-P